ENVIRONMENTAL PROTECTION AGENCY

[FRL-9925-68-OAR]

Clean Air Act Advisory Committee (CAAAC): Notice of Meeting

AGENCY: Environmental Protection Agency (EPA).

ACTION: Notice of meeting.

SUMMARY: The Environmental Protection Agency (EPA) announces upcoming public meetings of the Clean Air Act Advisory Committee (CAAAC). The EPA established the CAAAC on November 19, 1990, to provide independent advice and counsel to EPA on policy issues associated with implementation of the Clean Air Act of 1990. The Committee advises on economic, environmental, technical, scientific and enforcement policy issues.

Dates & Addresses: Pursuant to 5 U.S.C. App. 2 Section 10(a) (2), notice is hereby given that the CAAAC will hold its next face-to-face meeting on April 22, 2015, tentatively from 8:30 a.m. to 4:00 p.m. at the Crowne Plaza Washington National Airport hotel, 1480 Crystal Drive, Arlington, VA 22202.

Inspection of Committee Documents: The committee agenda, confirmed times for the meetings, and any documents prepared for these meetings will be publicly available on the CAAAC Web site at http://www.epa.gov/oar/caaac/ prior to the meeting. Thereafter, these documents, together with CAAAC meeting minutes, will also be available on the CAAAC Web site or by contacting the Office of Air and Radiation Docket and requesting information under docket EPA-HQ-OAR-2004-0075. The docket office can be reached by email at: a-and-r-Docket@epa.gov or FAX: 202-566-9744.

FOR FURTHER INFORMATION CONTACT: For more information about the CAAAC, please contact Jim Ketcham-Colwill, Interim Designated Federal Officer (DFO), Office of Air and Radiation, U.S. EPA by email at ketcham-colwill.jim@epa.gov or by telephone at (202) 564-1676. Additional information about this meeting, CAAAC, and its subcommittees can be found on the CAAAC Web site: http://www.epa.gov/oar/caaac/.

For information on access or services for individuals with disabilities, please contact Lorraine Reddick at (202) 564-1293 or reddick.lorraine@epa.gov, preferably at least 10 days prior to the meeting to give EPA as much time as possible to process your request.

Dated: March 25, 2015.
Jim Ketcham-Colwill,
Interim Designated Federal Officer, Clean Air Act Advisory Committee, Office of Air and Radiation.

[FR Doc. 2015-07491 Filed 3-31-15; 8:45 am]

BILLING CODE 6560-50-P